DEPARTMENT OF THE INTERIOR

Fish and Wildlife Service

[FWS-R3-R-2015-N197]; [FXRS1261030000-167-FF03R02000]

Whittlesey Creek National Wildlife Refuge, Bayfield County, Wisconsin; Final Comprehensive Conservation Plan and Finding of No Significant Impact for Environmental Assessment

AGENCY: Fish and Wildlife Service, Interior.

ACTION: Notice of availability.

SUMMARY: We, the U.S. Fish and Wildlife Service (Service), announce the availability of a final comprehensive conservation plan (CCP) and finding of no significant impact (FONSI) for the environmental assessment (EA) for the Whittlesey Creek National Wildlife Refuge (Refuge, NWR). In this final CCP, we describe how we intend to manage the refuge for the next 15 years.

ADDRESSES: You will find the final CCP, a summary of the final CCP, and the EA/FONSI on the planning Web site at http://www.fws.gov/midwest/planning/whittleseycreek/index.html. A limited number of hard copies and CD-ROMs are available. You may request one by any of the following methods:

• Email: r3planning@fws.gov. Include “Whittlesey Creek Final CCP” in the subject line of the message.

• U.S. Mail: Whittlesey Creek NWR, c/o Northern Great Lakes Visitor Center, 29270 County Highway G, Ashland, WI 54806.

FOR FURTHER INFORMATION CONTACT: Tom Kerr, 715-246-7784.

SUPPLEMENTARY INFORMATION:

Introduction

With this notice, we complete the CCP process for Whittlesey Creek National Wildlife Refuge, which we began by publishing a notice of intent in the Federal Register (78 FR 3909) on January 17, 2013. For more about the initial process and the history of this refuge, see that notice. We released the draft CCP and EA to the public, announcing and requesting comments in a notice of availability (80 FR 15249) on March 23, 2015. The 30-day comment period ended on April 22, 2015. A summary of public comments and the agency responses is included in the final CCP.

Background

The National Wildlife Refuge System Administration Act of 1966, as amended by the National Wildlife Refuge System Improvement Act of 1997 (16 U.S.C. 668dd-668ee) (Administration Act), requires us to develop a CCP for each national wildlife refuge. The purpose in developing a CCP is to provide refuge managers with a 15-year strategy for achieving refuge purposes and contributing toward the mission of the National Wildlife Refuge System (NWRS), consistent with sound principles of fish and wildlife management, conservation, legal mandates, and Service policies. In addition to outlining broad management direction on conserving wildlife and their habitats, CCPs identify wildlife-dependent recreational opportunities available to the public, including opportunities for hunting, fishing, wildlife observation and photography, and environmental education and interpretation. We will review and update the CCP at least every 15 years in accordance with the Administration Act.

Each unit of the NWRS was established for specific purposes. We use these purposes as the foundation for developing and prioritizing the management goals and objectives for each refuge within the NWRS mission, and to determine how the public can use each refuge. The planning process is a way for us and the public to evaluate management goals and objectives that will ensure the best possible approach to wildlife, plant, and habitat conservation, while providing for wildlife-dependent recreation opportunities that are compatible with each refuge's establishing purposes and the mission of the NWRS.

Additional Information

The final CCP may be found at http://www.fws.gov/midwest/planning/whittleseycreek/index.html. The final CCP includes detailed information about the planning process, refuge, issues, and management alternative selected. The Web site also includes an EA and FONSI, prepared in accordance with the National Environmental Policy Act (NEPA) (43 U.S.C. 4321 et seq.). The EA/FONSI includes discussion of four alternative Refuge management options. The Service's selected alternative is reflected in the final CCP.

The selected alternative focuses on continued participation in the interagency coaster brook trout restoration program in Whittlesey Creek. The quantity and quality of coldwater stream, forest, and coastal wetland habitat for native fish, migratory birds, and other wildlife will increase. Floodplain and watershed hydrology will better emulate natural seasonal and long-term variability. Service participation in the Northern Great Lakes Visitor Center (NGLVC) partnership will continue. Refuge staff will participate in NGLVC programs that align with the NWRS mission and Refuge purposes. A detailed description of objectives and actions included in this selected alternative is found in chapter 4 of the final CCP.

Charles M. Wooley,
Acting Regional Director.

[FR Doc. 2015-31987 Filed 12-18-15; 8:45 am]

BILLING CODE 4333-15-P